DEPARTMENT OF COMMERCE

International Trade Administration

Applications for Duty-Free Entry of Scientific Instruments

Pursuant to section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before October 9, 2007. Address written comments to Statutory Import Programs Staff, Room 2104, U.S. Department of Commerce, Washington, DC 20230. Applications may be examined between 8:30 a.m. and 5 p.m. at the U.S. Department of Commerce in Room 2104.

Docket Number: 07-059. Applicant: Northwestern University, 633 Clark St., Evanston, IL 60208. Instrument: Electron Microscope. Manufacturer: FEI Company, Czech Republic. Intended Use: The instrument is intended to be used by students at all levels of instruction, from academic courses to PhD candidates and will provide an analytical characterization instrumentation resource for hands-on microscope training and academic instruction. It will be used in courses such as microelectronic technology, mechanical engineering nanotechnology and for material science and engineering courses. The instrument will allow simultaneous FIB milling and SEM imaging. Application accepted by Commissioner of Customs: August 29, 2007.

Docket Number: 07-061. Applicant: University of Pennsylvania, 415 South University Ave., Philadelphia, PA 19104. Instrument: Electron Microscope, Model JEM-1011. Manufacturer: Jeol, Ltd., Japan. Intended Use: The instrument is intended to be used to investigate a broad range of biological samples, such as animal and plant tissues, eukaryotic and prokaryotic cells, subcellular organelles, macromolecular complexes and individual biomolecules. Electron microscopy is needed to obtain structural information of biological samples at a high resolution level. Application accepted by Commissioner of Customs: August 29, 2007.

Faye Robinson,
Director, Statutory Import Programs Staff Import Administration.

[FR Doc. E7-18471 Filed 9-18-07; 8:45 am]

BILLING CODE 3510-DS-S